DEPARTMENT OF STATE

[Public Notice 5387]

Notice of Meeting United States International Telecommunication Advisory Committee

The Department of State announces a meeting of the ITAC. The purpose of the Committee is to advise the Department on matters related to telecommunication and information policy matters in preparation for international meetings pertaining to telecommunication and information issues.

The ITAC will meet to discuss the matters related to the meeting of the ITU Radiocommunication Sector's Special Committee on Regulatory/Procedural Matters that will take place December 4-8, 2006 in Geneva, Switzerland. ITAC meetings will be convened on June 6, July 18, and August 15 2006 from 1 to 3 p.m. at the Boeing Company, 1200 Wilson Blvd., Arlington, VA. That is one-half block from the Rosslyn Metrorail station on the Orange and Blue lines.

Members of the public will be admitted to the extent that seating is available and may join in the discussions subject to the instructions of the Chair. Entrance to 1200 Wilson Blvd. is controlled. Persons planning to attend the meeting should arrive early enough to complete the entry procedure. One of the following current photo identifications must be presented to gain entrance to 1200 Wilson Blvd.: U.S. driver's license with your photo on it, U.S. passport, or U.S. Government identification. Foreign nationals are required to pre-clear 24 hours in advance by contacting Keisha Findley at keisha.m.findley@boeing.com or 703-465-3680.

Dated: April 24, 2006.
Douglas R. Spalt,
International Communications and Information Policy, Department of State.

[FR Doc. E6-6765 Filed 5-3-06; 8:45 am]

BILLING CODE 4710-07-P